DEPARTMENT OF COMMERCE

Bureau of the Census

[Docket Number 150409353-5353-01]

2020 Decennial Census Residence Rule and Residence Situations

AGENCY: Bureau of the Census, Department of Commerce.

ACTION: Notice and Request for Comment.

SUMMARY: The Bureau of the Census (U.S. Census Bureau) requests public comment on the 2010 Census Residence Rule and Residence Situations. The Residence Rule is applied to living situations to determine where people should be counted during the decennial Census. Specific Residence Situations have been included with the Residence Rule to illustrate how the Rule is applied. The Census Bureau is currently reviewing the 2010 Residence Rule and Residence Situations, to determine if changes should be made to the Rule and/or if the situations should be updated for the 2020 Census. The Census Bureau anticipates publishing the final 2020 Census Residence Rule and Residence Situations in late 2017.

DATES: To ensure consideration during the decision-making process, comments must be received by July 20, 2015. The Census Bureau anticipates publishing a summary of comments received in response to this Federal Register notice in late 2015. The Census Bureau will then publish the final 2020 Census Residence Rule and Residence Situations in late 2017.

ADDRESSES: Direct all written comments regarding the 2010 Census Residence Rule and Residence Situations to Karen Humes, Chief, Population Division, U.S. Census Bureau, Room 5H174, Washington, DC 20233; or Email [POP.2020.Residence.Rule@census.gov].

FOR FURTHER INFORMATION CONTACT: Population and Housing Programs Branch, U.S. Census Bureau, 6H185, Washington, DC 20233, telephone (301) 763-2381; or Email [POP.2020.Residence.Rule@census.gov].

SUPPLEMENTARY INFORMATION:

A. Background

The Census Bureau is committed to counting every person in the 2020 Census. Just as important, however, is the Census Bureau's commitment to counting every person in the correct place. The fundamental reason that the decennial census is conducted is to fulfill the Constitutional requirement (Article I, Section 2) to apportion the seats in the U.S. House of Representatives among the states. Thus, for a fair and equitable apportionment, it is crucial that people are counted in the right place during the 2020 Census.

The Census Act of 1790 established the concept of “usual residence” as the main principle in determining where people are to be counted. This concept has been followed in all subsequent censuses. Usual residence has been defined as the place where a person lives and sleeps most of the time. This place is not necessarily the same as the person's voting residence or legal residence.

Every decade the Census Bureau undertakes a review of the decennial residence rule guidance to ensure that the concept of usual residence is interpreted and applied in the decennial census as intended, and that these interpretations are in keeping with the intent of law, which directs the Census Bureau to enumerate people at their usual residence. This review also serves as an opportunity to identify new or changing living situations resulting from societal change, and create or revise the residence rule guidance where those situations are concerned.

Determining usual residence is straightforward for most people. However, given our Nation's wide diversity in types of living arrangements, the usual residence for some people is not as apparent. A few examples are people experiencing homelessness, people with a seasonal/second residence, people in prisons, people in the process of moving, people in hospitals, children in shared custody arrangements, college students, live-in employees, military personnel, and people who live in workers' dormitories. For these “residence situations,” the Census Bureau has provided guidance on how to interpret the usual residence concept to determine where to count those people.

The Census Bureau is requesting public comment on the 2010 Residence Rule (section “B”) and on the 2010 Residence Situations (section “B,” numbers 1-21, including all sub-paragraphs under each numbered section) to determine if changes should be made to the Rule and/or if the situations should be updated for the 2020 Census. The 2010 Residence Rule and Residence Situations are described in the next sections of this Federal Register notice.

B. The Residence Rule and Residence Situations for the 2010 Census of the United States

The Residence Rule was used to determine where people should be counted during the 2010 Census. The Rule said:

• Count people at their usual residence, which is the place where they live and sleep most of the time.

• People in certain types of facilities or shelters (i.e., places where groups of people live together) on Census Day should be counted at the facility or shelter.

• People who do not have a usual residence, or cannot determine a usual residence, should be counted where they are on Census Day.

The following sections describe how the Residence Rule applied for people in various living situations.

1. People Away From Their Usual Residence on Census Day

a) People away from their usual residence on Thursday, April 1, 2010 (Census Day), such as on a vacation or a business trip, visiting, traveling outside the U.S., or working elsewhere without a usual residence there (for example, as a truck driver or traveling salesperson)—Counted at the residence where they live and sleep most of the time.

2. Visitors on Census Day

a) Visitors on Thursday, April 1, 2010 (Census Day), who will return to their usual residence—Counted at the residence where they live and sleep most of the time.

b) Citizens of foreign countries who are visiting the U.S. on Thursday, April 1, 2010 (Census Day), such as on a vacation or a business trip—Not counted in the census.

3. People Who Live in More Than One Place

(a) People living away most of the time while working, such as people who live at a residence close to where they work and return regularly to another residence—Counted at the residence where they live and sleep most of the time. If there is no residence where they live and sleep most of the time, they are counted where they live and sleep more than anywhere else. If time is equally divided, or if usual residence cannot be determined, they are counted at the residence where they are staying on Thursday, April 1, 2010 (Census Day).

(b) People who live at two or more residences (during the week, month, or year), such as people who travel seasonally between residences (for example, snowbirds)—Counted at the residence where they live and sleep most of the time. If there is no residence where they live and sleep most of the time, they are counted where they live and sleep more than anywhere else. If time is equally divided, or if usual residence cannot be determined, they are counted at the residence where they are staying on Thursday, April 1, 2010 (Census Day).

(c) Children in shared custody or other arrangements who live at more than one residence—Counted at the residence where they live and sleep most of the time. If time is equally divided, they are counted at the residence where they are staying on Thursday, April 1, 2010 (Census Day).

4. People Without a Usual Residence

(a) People who cannot determine a usual residence—Counted where they are staying on Thursday, April 1, 2010 (Census Day).

(b) People at soup kitchens and regularly scheduled mobile food vans—Counted at the residence where they live and sleep most of the time. If they do not have a place they live and sleep most of the time, they are counted at the soup kitchen or mobile food van location where they are on Thursday, April 1, 2010 (Census Day).

(c) People at targeted non-sheltered outdoor locations—Counted at the outdoor location where people experiencing homelessness stay without paying.

5. Students

(a) Boarding school students living away from their parental home while attending boarding school below the college level, including Bureau of Indian Affairs boarding schools—Counted at their parental home rather than at the boarding school.

(b) College students living at their parental home while attending college—Counted at their parental home.

(c) College students living away from their parental home while attending college in the U.S. (living either on-campus or off-campus)—Counted at the on-campus or off-campus residence where they live and sleep most of the time.

(d) College students living away from their parental home while attending college in the U.S. (living either on-campus or off-campus) but staying at their parental home while on break or vacation—Counted at the on-campus or off-campus residence where they live and sleep most of the time.

(e) U.S. college students living outside the U.S. while attending college outside the U.S.—Not counted in the census.

(f) Foreign students living in the U.S. while attending college in the U.S. (living either on-campus or off-campus)—Counted at the on-campus or off-campus residence where they live and sleep most of the time.

6. Movers on Census Day

(a) People who move into a residence on Thursday, April 1, 2010 (Census Day), who have not been listed on a questionnaire for any residence—Counted at the residence they move into on Census Day.

(b) People who move out of a residence on Thursday, April 1, 2010 (Census Day), and have not moved into a new residence on Thursday, April 1, 2010, and who have not been listed on a questionnaire for any residence—Counted at the residence from which they moved.

(c) People who move out of a residence or move into a residence on Thursday, April 1, 2010 (Census Day), who have already been listed on a questionnaire for any residence—If they have already been listed on one questionnaire, do not list them on any other questionnaire.

7. People Who Are Born or Die on Census Day

(a) Babies born on or before 11:59:59 p.m. on Thursday, April 1, 2010 (Census Day)—Counted at the residence where they will live and sleep most of the time, even if they are still in the hospital on April 1, 2010 (Census Day).

(b) Babies born after 11:59:59 p.m. on Thursday, April 1, 2010 (Census Day)—Not counted in the census.

(c) People who die before Thursday, April 1, 2010 (Census Day)—Not counted in the census.

(d) People who die on Thursday, April 1, 2010 (Census Day)—Counted in the census if they are alive at any time on April 1, 2010.

8. Nonrelatives of the Householder

(a) Roomers or boarders—Counted at the residence where they live and sleep most of the time.

(b) Housemates or roommates—Counted at the residence where they live and sleep most of the time.

(c) Unmarried partners—Counted at the residence where they live and sleep most of the time.

(d) Foster children or foster adults—Counted at the residence where they live and sleep most of the time.

(e) Live-in employees, such as caregivers or domestic workers—Counted at the residence where they live and sleep most of the time.

9. U.S. Military Personnel

(a) U.S. military personnel living in military barracks in the U.S.—Counted at the military barracks.

(b) U.S. military personnel living in the U.S. (living either on base or off base) but not in barracks—Counted at the residence where they live and sleep most of the time.

(c) U.S. military personnel on U.S. military vessels with a U.S. homeport—Counted at the onshore U.S. residence where they live and sleep most of the time. If they have no onshore U.S. residence, they are counted at their vessel's homeport.

(d) People in military disciplinary barracks and jails in the U.S.—Counted at the facility.

(e) People in military treatment facilities with assigned active duty patients in the U.S.—Counted at the facility if they are assigned there.

(f) U.S. military personnel living on or off a military installation outside the U.S., including dependents living with them—Counted as part of the U.S. overseas population. They should not be included on any U.S. census questionnaire.

(g) U.S. military personnel on U.S. military vessels with a homeport outside the U.S.—Counted as part of the U.S. overseas population. They should not be included on any U.S. census questionnaire.

10. Merchant Marine Personnel on U.S. Flag Maritime/Merchant Vessels

(a) Crews of U.S. flag maritime/merchant vessels docked in a U.S. port or sailing from one U.S. port to another U.S. port on Thursday, April 1, 2010 (Census Day)—Counted at the onshore U.S. residence where they live and sleep most of the time. If they have no onshore U.S. residence, they are counted at their vessel. If the vessel is docked in a U.S. port, crew members with no onshore U.S. residence are counted at the port. If the vessel is sailing from one U.S. port to another U.S. port, crew members with no onshore U.S. residence are counted at the port of departure.

(b) Crews of U.S. flag maritime/merchant vessels engaged in U.S. inland waterway transportation on Thursday, April 1, 2010 (Census Day)—Counted at the onshore residence where they live and sleep most of the time.

(c) Crews of U.S. flag maritime/merchant vessels docked in a foreign port, sailing from one foreign port to another foreign port, sailing from a U.S. port to a foreign port, or sailing from a foreign port to a U.S. port on Thursday, April 1, 2010 (Census Day)—Not counted in the census.

11. Foreign Citizens in the U.S.

(a) Citizens of foreign countries living in the U.S.—Counted at the U.S. residence where they live and sleep most of the time.

(b) Citizens of foreign countries living in the U.S. who are members of the diplomatic community—Counted at the embassy, consulate, United Nations' facility, or other residences where diplomats live.

(c) Citizens of foreign countries visiting the U.S., such as on a vacation or business trip—Not counted in the census.

12. U.S. Citizens and Their Dependents Living Outside the U.S.

(a) U.S. citizens living outside the U.S. who are employed as civilians by the U.S. Government, including dependents living with them—Counted as part of the U.S. overseas population. They should not be included on any U.S. census questionnaire.

(b) U.S. citizens living outside the U.S. who are not employed by the U.S. Government, including dependents living with them—Not counted in the census.

(c) U.S. military personnel living on or off a military installation outside the U.S., including dependents living with them—Counted as part of the U.S. overseas population. They should not be included on any U.S. census questionnaire.

(d) U.S. military personnel on U.S. military vessels with a homeport outside the U.S.—Counted as part of the U.S. overseas population. They should not be included on any U.S. census questionnaire.

13. People in Correctional Facilities for Adults

(a) People in correctional residential facilities on Thursday, April 1, 2010 (Census Day)—Counted at the facility.

(b) People in federal detention centers on Thursday, April 1, 2010 (Census Day)—Counted at the facility.

(c) People in federal and state prisons on Thursday, April 1, 2010 (Census Day)—Counted at the facility.

(d) People in local jails and other municipal confinement facilities on Thursday, April 1, 2010 (Census Day)—Counted at the facility.

14. People in Group Homes and Residential Treatment Centers for Adults

(a) People in group homes intended for adults (non-correctional)—Counted at the facility.

(b) People in residential treatment centers for adults (non-correctional)—Counted at the residence where they live and sleep most of the time. If they do not have a residence where they live and sleep most of the time, they are counted at the facility.

15. People in Health Care Facilities

(a) Patients in general or Veterans Affairs hospitals (except psychiatric units) on Thursday, April 1, 2010 (Census Day), including newborn babies still in the hospital on Census Day—Counted at the residence where they live and sleep most of the time. Newborn babies should be counted at the residence where they will live and sleep most of the time.

(b) People in hospitals on Thursday, April 1, 2010 (Census Day), who have no usual home elsewhere—Counted at the facility.

(c) People staying in in-patient hospice facilities on Thursday, April 1, 2010 (Census Day)—Counted at the residence where they live and sleep most of the time. If they do not have a residence where they live and sleep most of the time, they are counted at the facility.

(d) People in mental (psychiatric) hospitals and psychiatric units for long-term non-acute care in other hospitals on Thursday, April 1, 2010 (Census Day)—Counted at the facility.

(e) People in nursing facilities/skilled nursing facilities on Thursday, April 1, 2010 (Census Day)—Counted at the facility.

16. People in Juvenile Facilities

a) People in correctional facilities intended for juveniles on Thursday, April 1, 2010 (Census Day)—Counted at the facility.

(b) People in group homes for juveniles (non-correctional) on Thursday, April 1, 2010 (Census Day)—Counted at the facility.

(c) People in residential treatment centers for juveniles (non-correctional) on Thursday, April 1, 2010 (Census Day)—Counted at the facility.

17. People in Residential School-Related Facilities

(a) People in college/university student housing—Counted at the college/university student housing.

(b) Boarding school students living away from their parental home while attending boarding school below the college level, including Bureau of Indian Affairs boarding schools—Counted at their parental home rather than at the boarding school.

(c) People in residential schools for people with disabilities on Thursday, April 1, 2010 (Census Day)—Counted at the school.

18. People in Shelters

(a) People in emergency and transitional shelters (with sleeping facilities) on Thursday, April 1, 2010 (Census Day), for people experiencing homelessness—Counted at the shelter.

(b) People in living quarters for victims of natural disasters—Counted at the residence where they live and sleep most of the time. If they do not have a residence where they live and sleep most of the time, they are counted at the facility.

(c) People in domestic violence shelters on Thursday, April 1, 2010 (Census Day)—Counted at the shelter.

19. People in Transitory Locations

(a) People at transitory locations such as recreational vehicle (RV) parks, campgrounds, hotels and motels (including those on military sites), hostels, marinas, racetracks, circuses, or carnivals—Counted at the residence where they live and sleep most of the time. If there is no residence where they live and sleep most of the time, they are counted where they live and sleep more than anywhere else. If time is equally divided, or if usual residence cannot be determined, they are counted at the place where they are staying on Thursday, April 1, 2010 (Census Day).

20. People in Religious-Related Residential Facilities

(a) People in religious group quarters such as convents and monasteries—Counted at the residence where they live and sleep most of the time. If they do not have a residence where they live and sleep most of the time, they are counted at the facility.

21. People in Workers' Residential Facilities

(a) People in workers' group living quarters and Job Corps Centers— Counted at the residence where they live and sleep most of the time. If they do not have a residence where they live and sleep most of the time, they are counted at the facility.

Dated: May 13, 2015.
John H. Thompson,
Director, Bureau of the Census.

[FR Doc. 2015-12118 Filed 5-19-15; 8:45 am]

BILLING CODE 3510-07-P